NUCLEAR REGULATORY COMMISSION

[Docket No. 72-20]

Department of Energy; Three Mile Island, Unit 2, Independent Spent Fuel Storage Installation; Notice of Docketing of Materials License SNM-2508 Amendment Application

By letter dated October 4, 2000, the U.S. Department of Energy (DOE) submitted an application to the Nuclear Regulatory Commission (NRC or the Commission), in accordance with 10 CFR Part 72, requesting the amendment of the Three Mile Island, Unit 2 (TMI-2) independent spent fuel storage installation (ISFSI) license (SNM-2508) for the ISFSI located at Idaho Falls, Idaho. DOE is seeking Commission approval to amend the materials license and the ISFSI Technical Specifications to grant an exemption to the requirements of 10 CFR 72.184, Safeguards Contingency Plan. The exemption would allow DOE to provide safeguards contingency planning as part of the safeguards resources currently provided for the Idaho National Engineering and Environmental Laboratory, where the TMI-2 ISFSI is located. DOE is also seeking Commission approval to amend the Technical Specifications to revise language regarding the physical protection plan, spent fuel contents, ASME Code exceptions, technical specifications bases control program, and essential program control. The requested changes do not appear to affect the design, operation, maintenance, or surveillance of the ISFSI.

This application was docketed under 10 CFR Part 72; the ISFSI Docket No. is 72-20 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of action taken and an opportunity for interested persons to request a hearing on whether the action should be rescinded or modified.

For further details with respect to this application, see the application dated October 4, 2000, which is available for public inspection at the Commission's Public Document Room, One White Flint North Building, 11555 Rockville Pike, Rockville, MD or from the publicly available records component of NRC's document system (ADAMS). ADAMS is accessible from the NRC Web site at Http://www.nrc.gov/NRC/ADAMS/index.html (the Public Electronic Reading Room).

Dated at Rockville, Maryland, this 8th day of December 2000.
For the Nuclear Regulatory Commission.
E. William Brach,
Director, Spent Fuel Project Office, Office of Nuclear Material Safety and Safeguards.

[FR Doc. 00-33454 Filed 12-29-00; 8:45 am]

BILLING CODE 7590-01-P